DEPARTMENT OF DEFENSE

Department of the Navy

Notice of Intent To Grant Exclusive Patent License; Second Sight, LLC

AGENCY: Department of the Navy, DOD.

ACTION: Notice.

SUMMARY: The Department of the Navy hereby gives notice of its intent to grant to Second Sight, LLC, a revocable, nonassignable, exclusive license to practice in the United States and certain foreign countries, the Government-owned inventions described below:

U.S. Patent No. 5,264,722 (Navy Case No. 74,224) issued November 23, 1993, entitled “Nanochannel Glass Matrix Used in Making Mesoscopic Structures”; U.S. Patent No. 6,185,961 (Navy Case No. 78,923) issued February 13, 2001, entitled “Nanopost Arrays and Process for Making Same”; U.S. Patent No. 6,393,327 (Navy Case No. 82,449) issued May 21, 2002, entitled “Microelectronic Stimulator Array”; U.S. Patent Application Serial No. 10/061,413 (Navy Case No. 83,682; divisional of U.S. Patent No. 6,393,327) filed February 4, 2002, entitled “Microelectronic Stimulator Array”; U.S. Patent Application Serial No. 10/123,406 (Navy Case No. 83,839; divisional of U.S. Patent No. 6,393,327) filed April 17, 2002, entitled “A Permanent Retinal Implant Device”; and Navy Case No. 83,713 disclosed February 22, 2002, entitled “Fabrication of Microelectrode Array Having High Aspect Ratio Microwires”. The proposed field of use may be limited to retinal implants for improved vision.

DATES: Anyone wishing to object to the grant of this license must file written objections along with supporting evidence, if any, not later than April 30, 2003.

ADDRESSES: Written objections are to be filed with the Naval Research Laboratory, Code 1004, 4555 Overlook Avenue, SW., Washington, DC 20375-5320.

FOR FURTHER INFORMATION CONTACT: Catherine M. Cotell, Ph.D. Head, Technology Transfer Office, NRL Code 1004, 4555 Overlook Avenue, SW., Washington, DC 20375-5320, telephone (202) 767-7230. Due to U.S. Postal delays, please fax (202) 404-7920, E-Mail: cotell@nrl.navy.mil or use courier delivery to expedite response.

(Authority: 35 U.S.C. 207, 37 CFR part 404.)
Dated: April 8, 2003.
R.E. Vincent II,
Lieutenant Commander, Judge Advocate General's Corps, U.S. Navy, Federal Register Liaison Officer.

[FR Doc. 03-9131 Filed 4-14-03; 8:45 am]

BILLING CODE 3810-FF-P